ENVIRONMENTAL PROTECTION AGENCY

[FRL-6928-3]

Clean Water Act Section 303(d): Availability of Total Maximum Daily Loads (TMDLs)

AGENCY: Environmental Protection Agency (EPA).

ACTION: Notice of availability.

SUMMARY: This notice announces the availability for comment of the administrative record file for 88 TMDLs prepared by EPA Region 6 for waters listed in Louisiana's Mermentau and Vermilion/Teche river basins, under section 303(d) of the Clean Water Act (CWA). EPA prepared these TMDLs in response to a Court Order dated October 1, 1999, in the lawsuit Sierra Club, et al. v. Clifford et al., No. 96-0527, (E.D. La.). Under this court order, EPA is required to prepare TMDLs when needed for waters on the Louisiana 1998 section 303(d) list by December 31, 2007.

DATES: Comments on the 88 TMDLs must be submitted in writing to EPA on or before February 2, 2001.

ADDRESSES: Comments on the 88 TMDLs should be sent to Ellen Caldwell, Environmental Protection Specialist, Water Quality Protection Division, U.S. Environmental Protection Agency Region 6, 1445 Ross Ave., Dallas, TX 75202-2733. For further information, contact Ellen Caldwell at (214) 665-7513. The administrative record file for these TMDLs is available for public inspection at this address as well. Copies of the TMDLs and their respective calculations may be viewed at www.epa.gov/region6/water/tmdl.htm, or obtained by calling or writing Ms. Caldwell at the above address. Please contact Ms. Caldwell to schedule an inspection.

FOR FURTHER INFORMATION CONTACT: Ellen Caldwell at (214) 665-7513.

SUPPLEMENTARY INFORMATION: In 1996, two Louisiana environmental groups, the Sierra Club and Louisiana Environmental Action Network (plaintiffs), filed a lawsuit in Federal Court against the United States Environmental Protection Agency (EPA), styled Sierra Club, et al. v. Clifford et al., No. 96-0527, (E.D. La.). Among other claims, plaintiffs alleged that EPA failed to establish Louisiana TMDLs in a timely manner. Discussion of the court's order may be found at 65 FR 54032 (September 6, 2000).

EPA Seeks Comments on 88 TMDLs

By this notice EPA is seeking comment on the following 88 TMDLs for waters located within the Mermentau and Vermilion/Teche basins:

Subsegment | Waterbody name | Pollutant
060205 | Bayou Teche—Headwaters At Bayou Courtableau to I-10 | Salinity/TDS.
060211 | West Atchafalaya Borrow Pit Canal | Salinity/TDS.
060301 | Bayou Teche—I-10 to Keystone Locks and Dam | Salinity/TDS. Chlorides.
050201 | Bayou Plaquemine Brule—Head-Waters to Bayou Descannes | Ammonia.
050401 | Mermentau River—Origin to Lake Arthur | Ammonia.
060102 | Cocodrie Lake | Noxious Aquatic.
|  | Plants & Ammonia.
|  | Chlorides.
|  | Sulfate.
060204 | Bayou Courtableau—Origin to West Atchafalaya Borrow Pit Canal | Ammonia. Salinity/TDS.
060203 | Chicot Lake | Noxious Aquatic.
|  | Plants & Nutrients.
050101 | Bayou Des Cannes—Headwaters to Mermentau River | Nutrients.
050301 | Bayou Nezpique—Headwaters to Mermentau River | Nutrients.
060202 | Bayou Cocodrie | Nutrients.
060208 | Bayou Boeuf—Headwaters To Bayou Courtableau | Nutrients.
060211 | West Atchafalaya Borrow Pit Canal | Sulfates.
060301 | Bayou Teche—I-10 to Keystone Locks and Dam | Sulfates.
050101 | Bayou Des Cannes—Headwaters to Mermentau River | Total Suspended Solids (TSS).
050102 | Bayou Joe Marcel | TSS.
050103 | Bayou Mallet | TSS.
050201 | Bayou Plaquemine Brule—Headwaters To Bayou Des Cannes | Siltation. TSS.
050301 | Bayou Nezpique—Headwaters to Mermentau River | Siltation. TSS.
050302 | Mermentau River Basin | Siltation. TSS.
050401 | Mermentau River—Origin to Lake Arthur | TSS.
050402 | Lake Arthur and Lower Mermentau | TSS.
050501 | Bayou Que de Tortue—Headwaters To Mermentau River | TSS. Siltation.
050602 | Intracoastal Waterway | TSS.
050701 | Grand Lake | TSS.
050702 | Intracoastal Waterway | TSS.
050703 | White Lake | Siltation.
|  | TSS.
050901 | Bays and Gulf Waters to State 3-mile Limit | Siltation. TSS.
060101 | Spring Creek—Headwaters to Cocodrie Lake (Scenic) | TSS.
060102 | Cocodrie Lake | Siltation.
060201 | Bayou Cocodrie—From U.S. Hwy 167 To the Bayou Boeuf Cocodrie Canal | TSS.
060202 | Bayou Cocodrie | TSS.
|  | Siltation.
060203 | Chicot Lake | TSS.
060204 | Bayou Courtableau—Origin to West Atchafalaya Borrow Pit Canal | TSS.
060205 | Bayou Teche—Headwaters at Bayou Courtableau to I-10 | TSS.
060207 | Bayou des Glaises Diversion Canal | TSS.
060208 | Bayou Boeuf—Headwaters to Bayou Courtableau | TSS.
060210 | Bayou Carron | TSS.
060211 | West Atchafalaya Borrow Pit Canal | TSS.
060212 | Chatlin Lake Canal and Bayou Dulac | TSS.
|  | Siltation.
060301 | Bayou Teche—I-10 to Keystone Locks and Dam | Turbidity. TSS.
060401 | Bayou Teche—Keystone Locks and Dam to Charenton Canal | TSS.
060501 | Bayou Teche—Charenton Canal to Wax Lake Outlet | TSS.
060601 | Charenton Canal | TSS.
060701 | Tete Bayou | TSS.
060702 | Lake Fausse Point and Dauterive Lake | TSS.
|  | Siltation.
060703 | Bayou du Portage | TSS.
060906 | Intracoastal Waterway | TSS.
060907 | Franklin Canal | TSS.
|  | Turbidity.
060801 | Vermilion River—Headwaters at Bayou Fusilier-Bourbeaux Junction to New Flanders (Ambassador Caffery Bridge At Hwy 3073) | TSS.
060802 | Vermilion River—From New Flanders (Ambassador Caffery Bridge at Hwy 3073 to Intracoastal Waterway) | TSS.
060803 | Vermilion River Cutoff | TSS.
060804 | Intracoastal Waterway | TSS.
060901 | Bayou Petite Anse | TSS.
060902 | Bayou Carlin (Delcambre Canal)— Lake Peigneur to Bayou Petite Anse (Estuarine) | TSS.
060903 | Bayou Tigre | TSS
060904 | Vermilion River B890 Basin New Iberia Drainage Canal | TSS.
060905 | New Iberia Southern Drainage Canal | TSS.
|  | Turbidity.
060909 | Lake Peigneur | Siltation.
|  | TSS.
060910 | Boston Canal and Associated Canals (Estuarine) | Siltation. TSS.
|  | Turbidity.
060911 | Vermilion-Teche River Basin | TSS.
061101 | Bayou Petite Anse | Siltation.
|  | TSS.
|  | Turbidity.
061102 | Intracoastal Waterway | TSS.
061103 | Freshwater Bayou Canal | TSS.
|  | Turbidity.

EPA requests that the public provide to EPA any water quality related data and information that may be relevant to the calculations for these TMDLs, or any other comments relevant to these TMDLs. EPA will review all data and information submitted during the public comment period and revise the TMDLs where appropriate. EPA will then forward the TMDLs to the Court and the Louisiana Department of Environmental Quality (LDEQ). LDEQ will incorporate the TMDLs into its current water quality management plan.

Dated: December 21, 2000.
Sam Becker,
Acting Director, Water Quality Protection Division, Region 6.

[FR Doc. 01-114 Filed 1-2-01; 8:45 am]

BILLING CODE 6560-50-P